FEDERAL COMMUNICATIONS COMMISSION

[OMB 3060-1262]

Information Collection Approved by the Office of Management and Budget

AGENCY: Federal Communications Commission.

ACTION: Notice.

SUMMARY: The Federal Communications Commission (Commission) has received Office of Management and Budget (OMB) approval, for a new, one-time information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Contact Cathy Williams, Cathy.Williams@fcc.gov, (202) 418-2918.

SUPPLEMENTARY INFORMATION: The total annual reporting burdens and costs for the respondents are as follows:

OMB Control Number: 3060-1262.

OMB Approval Date: May 23, 2019.

OMB Expiration Date: May 31, 2022.

Title: Incumbent 39 GHz Licensee Short-Form Application.

Form Number: FCC Form 175-A.

Respondents: Business or other for-profit entities, not-for-profit institutions, and state, local or tribal governments.

Number of Respondents and Responses: 16 respondents; 16 responses.

Estimated Time per Response: 30 minutes.

Frequency of Response: One-time reporting requirement.

Total Annual Burden: 8 hours.

Total Annual Cost: None.

Obligation to Respond: Required to obtain or retain benefits. Statutory authority for the currently approved information collection is contained in sections 154, 254, and 303(r) of the Communications Act, as amended, 47 U.S.C. 4, 254, 303(r).

Nature and Extent of Confidentiality: Information collected pursuant this information collection will be made available for public inspection, and the Commission is not requesting that respondents submit confidential information in response to this information collection. To the extent a respondent seeks to have information collected pursuant to this information collection withheld from public inspection, the respondent may request confidential treatment of such information pursuant to section 0.459 of the Commission's rules, 47 CFR 0.459.

Privacy Act Impact Assessment: No impact(s).

Needs and Uses: In its 2016 Spectrum Frontiers Report and Order (FCC 16-89), the Commission adopted Upper Microwave Flexible Use Service (UMFUS) rules for the 28 GHz, Upper 37 GHz, and 39 GHz bands to make available millimeter wave spectrum for 5G. In its 2017 Spectrum Frontiers Second Report and Order (FCC 17-152), the Commission expanded the UMFUS rules to cover the 24 GHz and 47 GHz bands. In its December 2018 Fourth Report and Order (FCC 18-180), the Commission established an incentive auction that promotes the flexible-use wireless service rules that the Commission has adopted for the Upper 37 GHz, 39 GHz, and 47 GHz bands and, among other things, adopted modified band plans for these bands.

There are currently a number of existing licenses in the 39 GHz band that do not fit geographically into the Commission's new 39 GHz band plan, resulting in “encumbered” licenses in this band. The Commission will use the incentive auction process to resolve the difficulties presented by these encumbrances and the need for existing 39 GHz licenses to be transitioned efficiently to the new band plan and possibly to new service areas. Pursuant to the reconfiguration process adopted in the Fourth Report and Order, prior to the incentive auction, the Commission will offer each incumbent 39 GHz licensee a reconfiguration of its existing 39 GHz licenses that conforms more closely with the Commission's new band plan and service areas. Each incumbent can then choose to commit to (1) have its existing 39 GHz licenses modified based on the Commission's reconfiguration proposal; or (2) have its licenses modified based on an alternative reconfiguration proposed by the incumbent (provided it satisfies certain specified conditions); or (3) relinquish its existing spectrum usage rights in exchange for an incentive payment. An incumbent 39 GHz licensee will submit contact and related information and certifications on FCC Form 175-A which will be used by the Commission to enable the incumbent licensee to make its commitment to either accept modification of its 39 GHz spectrum holdings (either as proposed by the Commission or an acceptable alternate) or to relinquish its existing spectrum usage rights in exchange for an incentive payment.

The Commission received approval from OMB for the information collection requirements contained in OMB 3060-1262 on May 23, 2019.

Federal Communications Commission.
Marlene Dortch,
Secretary, Office of the Secretary.

[FR Doc. 2019-11533 Filed 6-3-19; 8:45 am]

BILLING CODE 6712-01-P